DEPARTMENT OF ENERGY

Federal Energy Regulatory Commission

[Docket No. CP18-137-000]

Columbia Gas Transmission, LLC; Notice of Schedule for Environmental Review of the Buckeye Xpress Project

On March 26, 2018, Columbia Gas Transmission, LLC (Columbia) filed an application in Docket No. CP18-137-000 requesting a Certificate of Public Convenience and Necessity pursuant to Section 7(c) of the Natural Gas Act to construct and operate certain natural gas pipeline facilities. The proposed Project is known as the Buckeye Xpress Project (Project), and would increase the firm natural gas transportation capacity on Columbia's system by 275 million cubic feet per day.

On April 9, 2018, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review
Issuance of EA | April 8, 2019.
90-day Federal Authorization Decision Deadline | July 7, 2019.

If a schedule change becomes necessary, additional notice will be provided so that the relevant agencies are kept informed of the Project's progress.

Project Description

Columbia's Project would consist of replacing 60.8 miles of aging 20- to 24-inch-diameter pipeline with 66.2 miles of new 36-inch-diameter pipeline on Columbia's existing Line R-501, constructing 0.2 mile of 4-inch-diameter pipeline for the Wellston Lateral, installing four new mainline valves, and modifying existing compressor and regulator stations, all in Ohio and West Virginia. The project would also abandon 1.1 miles of 2- to 3-inch-diameter distribution pipeline. The new pipeline would be 5.4 miles longer than the existing pipeline to avoid steep land contours.

Background

On October 16, 2017, the Commission issued a Notice of Intent to Prepare an Environmental Assessment for the Planned Buckeye Xpress Project, Request for Comments on Environmental Issues, and Notice of Public Scoping Sessions (NOI). The NOI was issued during the pre-filing review of the Project in Docket No. PF17-6 and was sent to affected landowners; federal, state, and local government agencies; elected officials; environmental and public interest groups; Native American tribes; other interested parties; and local libraries and newspapers. In response to the NOI, the Commission received comments from the U.S. Environmental Protection Agency, the U.S. Fish and Wildlife Service, the Bureau of Indian Affairs, the Ohio Farm Bureau, the Ohio Environmental Protection Agency, the Sierra Club, the Center for Biological Diversity, the Ohio Environmental Council, the Ohio Valley Conservation Coalition, and four landowners. Major issues raised during scoping include alternatives, greenhouse gas emissions, the need for an environmental impact statement instead of an environmental assessment, upstream and downstream impacts, climate impacts, induced development, compliance with Wayne National Forest's 2006 Forest Plan, and that the project is not needed. All substantive comments will be addressed in the EA.

The U.S. Forest Service and the U.S. Army Corps of Engineers are cooperating agencies in the preparation of the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and Docket Number excluding the last three digits (i.e., CP18-137), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: February 28, 2019.
Nathaniel J. Davis, Sr.,
Deputy Secretary.

[FR Doc. 2019-03997 Filed 3-5-19; 8:45 am]

BILLING CODE 6717-01-P